ENVIRONMENTAL PROTECTION AGENCY

40 CFR Parts 52 and 81

[R03-OAR-2004-WV-0001; FRL-7850-6]

Approval and Promulgation of Air Quality Implementation Plans; West Virginia; Withdrawal of Direct Final Rule

AGENCY: Environmental Protection Agency (EPA).

ACTION: Withdrawal of direct final rule.

SUMMARY: Due to an adverse comment, EPA is withdrawing the direct final rule to redesignate the City of Weirton PM10 nonattainment area to attainment and approval of the maintenance plan. In the direct final rule published on October 27, 2004 (69 FR 62591), we stated that if we received adverse comment by November 26, 2004, the rule would be withdrawn and not take effect. EPA subsequently received an adverse comment. EPA will address the comment received in a subsequent final action based upon the proposed action also published on October 27, 2004 (69 FR 62637). EPA will not institute a second comment period on this action.

EFFECTIVE DATE: The direct final rule is withdrawn as of December 20, 2004.

FOR FURTHER INFORMATION CONTACT: Linda Miller, (215) 814-2068, or by e-mail at miller.linda@epa.gov.

List of Subjects

40 CFR Part 52

Environmental protection, Air pollution control, Incorporation by reference, Particulate matter, Reporting and recordkeeping requirements.

40 CFR Part 81

Air pollution control, National parks, Wilderness areas.

Dated: December 13, 2004.
Donald S. Welsh,
Regional Administrator, Region III.

Accordingly, the addition of § 52.2520 (c)(60) and the amendment in § 81.349 to the table for “West Virginia—PM10” revising the entry for Hancock and Brooke Counties (part): The City of Weirton are withdrawn as of December 20, 2004.

[FR Doc. 04-27664 Filed 12-17-04; 8:45 am]

BILLING CODE 6560-50-P